DEPARTMENT OF THE INTERIOR

Geological Survey

Prospective Grant of Exclusive Patent License

This is notice in accordance with 35 U.S.C. 209(c)(1) and 37 CFR 404.7(a)(1)(i) that the U.S. Geological Survey (USGS), a bureau of the U.S. Department of the Interior (DOI), is contemplating the grant of an exclusive license in the Untied States to practice the invention embodied in U.S. Patent Application Serial Number 09/788,475, filed February 21, 2001, and entitled “Detecting Device for Fluorescent-Labeled Material,” to Western Chemical Inc. of Ferndale, WA 98248. The cited invention is a property of the U.S. Fish & Wildlife Service, another DOI Bureau.

The prospective exclusive license will be royalty-bearing and will comply with the terms and conditions of 35 U.S.C. 209 and 37 CFR 404.7. The prospective exclusive license may be granted unless, within fifteen (15) days from the date of this published notice, USGS receives written evidence and argument which establishes that the grant of a license would not be consistent with the requirements of 35 U.S.C. 209 and 37 CFR 404.7.

The present invention is a device for detecting visible fluorescence emitted from a fluorescent-labeled sample in which a fluorochrome-marked sample is excited with the proper wattage and wavelentth of light using an exciter or bandpass filter and beamsplitting mirror device. This causes the sample to emit light of a slightly higher wavelength than that of excitation. A subsequent barrier filter of the proper configuration placed between the sample and the observer allows this longer wavelength to be observed as fluorescence. This technique is particularly useful for viewing large biological specimens such as fish.

The availability of the invention for licensing is announced herein and, previously, during several talks given by the inventor, Jerre W. Mohler.

A copy of the cited patent application is available for those with a licensing interest from the USGS Technology Enterprise Office, following completion of a standard non-disclosure agreement. The patent application and nondisclosure agreement may be requested by phone at (703) 648-4344 or by e-mail at nmark@usgs.gov.

Inquires, comments and other materials relating to the contemplated license must be submitted to Neil L. Mark, Technology Enterprise Office, U.S. Geological Survey, 211 National Center, Reston, VA 20192 by regular mail, by fax at (703) 648-4408, or by email at nmark@usgs.gov.

Properly filed competing applications received by the USGS in response to this notice will be treated as objections to the grant of the contemplated license.

Julia M. Giller,
Program Manager, Technology Enterprise Office.

[FR Doc. 01-7099 Filed 3-21-01; 8:45 am]

BILLING CODE 4310-47-M